DEPARTMENT OF JUSTICE

Drug Enforcement Administration

[Docket No. DEA-695]

Importer of Controlled Substances Application: Epic Pharma, LLC

AGENCY: Drug Enforcement Administration, Justice.

ACTION: Notice of application.

SUMMARY: Epic Pharma, LLC applied to be registered as an importer of the following basic class(es) of a controlled substance: Methadone.

DATES: Registered bulk manufacturers of the affected basic class(es), and applicants therefore, may file written comments on or objections to the issuance of the proposed registration on or before September 10, 2020. Such persons may also file a written request for a hearing on the application on or before September 10, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All request for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on July 10, 2020, Epic Pharma, LLC, 227-15 North Conduit Avenue, Laurelton, New York 11413 applied to be registered as an importer of the following basic class(es) of a controlled substance:

Controlled substance | Drug code | Schedule
Methadone | 9250 | II

The company plans to import the listed controlled substance for research and analytical purposes.

William T. McDermott,
Assistant Administrator.

[FR Doc. 2020-17432 Filed 8-10-20; 8:45 am]

BILLING CODE 4410-09-P